COMMITTEE FOR PURCHASE FROM PEOPLE WHO ARE BLIND OR SEVERELY DISABLED

Procurement List; Proposed Additions

AGENCY: Committee for Purchase From People Who Are Blind or Severely Disabled.

ACTION: Proposed additions to Procurement List.

SUMMARY: The Committee is proposing to add to the Procurement List products to be furnished by nonprofit agencies employing persons who are blind or have other severe disabilities.

Comments Must Be Received On Or Before: May 20, 2007.

ADDRESSES: Committee for Purchase From People Who Are Blind or Severely Disabled, Jefferson Plaza 2, Suite 10800, 1421 Jefferson Davis Highway, Arlington, Virginia 22202-3259.

FOR FURTHER INFORMATION CONTACT: Kimberly M. Zeich, Telephone: (703) 603-7740, Fax: (703) 603-0655, or e-mail CMTEFedReg@jwod.gov.

SUPPLEMENTARY INFORMATION: This notice is published pursuant to 41 U.S.C. 47(a) (2) and 41 CFR 51-2.3. Its purpose is to provide interested persons an opportunity to submit comments on the proposed actions.

If the Committee approves the proposed additions, the entities of the Federal Government identified in the notice for each product will be required to procure the products listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the products to the Government.

2. If approved, the action will result in authorizing small entities to furnish the products to the Government.

3. There are no known regulatory alternatives which would accomplish the objectives of the Javits-Wagner-O'Day Act (41 U.S.C. 46-48c) in connection with the products proposed for addition to the Procurement List.

Comments on this certification are invited. Commenters should identify the statement(s) underlying the certification on which they are providing additional information.

End of Certification

The following products are proposed for addition to Procurement List for production by the nonprofit agencies listed:

Products

Cap, Utility, Camouflage Pattern, Air Force, BDU:

NSN: 8415-01-536-4140—Size 6½;

NSN: 8415-01-536-4144—Size 6⅜;

NSN: 8415-01-536-4148—Size 6⅝;

NSN: 8415-01-536-4152—Size 6¾;

NSN: 8415-01-536-4181—Size 6⅞;

NSN: 8415-01-536-4183—Size 7;

NSN: 8415-01-536-4185—Size 7⅛;

NSN: 8415-01-536-4212—Size 7¼;

NSN: 8415-01-536-4218—Size 7⅜;

NSN: 8415-01-536-4221—Size 7½;

NSN: 8415-01-536-4223—Size 7⅝;

NSN: 8415-01-536-4226—Size 7¾;

NSN: 8415-01-536-4229—Size 7⅞;

NSN: 8415-01-536-4233—Size 8;

NSN: 8415-01-536-4236—Size 8⅛;

NSN: 8415-01-536-4240—Size 8¼;

NSN: 8415-01-536-4245—Size 8⅜;

NSN: 8415-01-536-4248—Size 8½.

NPA: Southeastern Kentucky Rehabilitation Industries, Inc., Corbin, KY.

Contracting Activity: Defense Supply Center Philadelphia, Philadelphia, PA.

Coverage: C-List—The requirement being proposed to the Procurement List is an additional 25% of the Defense Supply Center Philadelphia, Philadelphia, PA requirement.

Clamp, Loop:

NSN: 5340-01-527-6885.

NPA: Provail, Seattle, WA.

Contracting Activity: Defense Supply Center Philadelphia, Philadelphia, PA.

Latex Disposable Gloves:

NSN: M.R. 553.

Nitrile Disposable Gloves:

NSN: M.R. 552.

NPA: New York City Industries for the Blind, Inc., Brooklyn, NY.

Contracting Activity: Defense Commissary Agency, Fort Lee, VA.

Patrick Rowe,
Deputy Executive Director.

[FR Doc. E7-7525 Filed 4-19-07; 8:45 am]

BILLING CODE 6353-01-P